DEPARTMENT OF THE INTERIOR

National Indian Gaming Commission

25 CFR Part 559

RIN 3141-AA76

Facility License; Correction

AGENCY: National Indian Gaming Commission, Department of the Interior.

ACTION: Proposed rule; correction.

SUMMARY: This document corrects the preamble to a proposed rule published in the Federal Register of December 1, 2021, regarding Facility Licenses. The document contained incorrect dates for submitting comments. This correction clarifies that comments are due January 31, 2022.

FOR FURTHER INFORMATION CONTACT: Michael Hoenig, 202-632-7003.

SUPPLEMENTARY INFORMATION:

Correction

In the Federal Register of December 1, 2021, in FR Doc. 2021-25845, on page 68200, in the third column, change the DATES caption to read:

DATES: Written comments on this proposed rule must be received on or before January 31, 2022.

Dated: January 6, 2022.
Michael Hoenig,
General Counsel.

[FR Doc. 2022-00625 Filed 1-12-22; 8:45 am]

BILLING CODE 7565-01-P